DEPARTMENT OF THE TREASURY

Submission for OMB Review; Comment Request

June 16, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 26, 2004 to be assured of consideration.

Department of the Treasury and Department of Homeland Security

OMB Number: 1515-0145.

Form Number: None.

Type of Review: Reinstatement.

Title: Regulations Relating to Copyrights and Trademarks.

Description: The collection of information is required in order for Customs Border Protection (CBP) to provide protection to trademark owners and those requesting copyright protection. In order for CPB to protect against copyright and trademark infringement, respondents must provide information sufficient to enable CBP officers to identify imported articles that violate copyrights and trademarks.

Respondents: Business or other for-profit, Individual or households.

Estimated Number of Respondents: 2,000.

Estimated Burden Hours Per Respondent: 2 hours.

Frequency of Response: On occasion.

Estimated Total Reporting Burden: 4,000 hours.

Clearance Officer: Tracey Denning, (202) 927-1429, Department of Homeland Security, Bureau of Customs and Border Protection, Information Services Branch, Ronald Reagan Building, 1300 Pennsylvania Avenue, NW., Room 3.2.C, Washington, DC 20229.

OMB Reviewer: Joseph F. Lackey, Jr., (202) 395-7316, Office of Management and Budget, Room 10235, New Executive Office Building, Washington, DC 20503.

Lois K. Holland,
Treasury PRA Clearance Officer.

[FR Doc. 04-14497 Filed 6-24-04; 8:45 am]

BILLING CODE 4820-02-P